DEPARTMENT OF LABOR

Employment and Training Administration

[TA-W-60,262]

Paramount Cards Inc.; A Subsidiary of Paramount Card Holding Corporation; Pawtucket, RI; Notice of Termination of Investigation

Pursuant to Section 221 of the Trade Act of 1974, as amended, an investigation was initiated on October 19, 2006 in response to a worker petition filed by a company official on behalf of workers of Paramount Cards Inc., a subsidiary of Paramount Card Holding Corporation, Pawtucket, Rhode Island.

The petitioning group of workers is covered by an active certification (TA-W-57,952) which expires on October 5, 2007. Consequently, further investigation in this case would serve no purpose, and the investigation has been terminated.

Signed at Washington, DC this 27th day of October 2006.
Richard Church,
Certifying Officer, Division of Trade Adjustment Assistance.

[FR Doc. E6-18639 Filed 11-3-06; 8:45 am]

BILLING CODE 4510-30-P